DEPARTMENT OF ENERGY

Federal Energy Regulatory Commission

[Docket No. CP16-116-000]

Texas LNG Brownsville, LLC; Notice of Availability of the Final Environmental Impact Statement for the Proposed Texas LNG Project

The staff of the Federal Energy Regulatory Commission (FERC or Commission) has prepared a final environmental impact statement (EIS) for the Texas LNG Project, proposed by Texas LNG Brownsville, LLC (Texas LNG) in the above-referenced docket. Texas LNG requests authorization to site, construct, modify, and operate liquefied natural gas (LNG) export facilities on the Brownsville Ship Channel in Cameron County, Texas. The Texas LNG Project would include a new LNG export terminal capable of producing up to 4 million tonnes per annum of LNG for export. The terminal would receive natural gas to the export facilities from a third-party intrastate pipeline.

The final EIS assesses the potential environmental effects of the construction and operation of the Texas LNG Project in accordance with the requirements of the National Environmental Policy Act (NEPA). The FERC staff concludes that approval of the Texas LNG Project would result in adverse environmental impacts. However, with the mitigation measures recommended in the EIS, impacts in the project area would be avoided or minimized and would not be significant, with the exception of visual resources when viewed from the Laguna Atascosa National Wildlife Refuge. In addition, the Texas LNG Project, combined with other projects in the geographic scope, including the Rio Grande LNG and Annova LNG Projects, would result in significant cumulative impacts from sediment/turbidity and shoreline erosion within the Brownsville Ship Channel during operations from vessel transits; on the federally listed ocelot and jaguarundi from habitat loss and potential for increased vehicular strikes during construction; on the federally listed aplomado falcon from habitat loss; and on visual resources from the presence of aboveground structures. Construction and operation of the Texas LNG Project would result in mostly temporary or short-term environmental impacts; however, some long-term and permanent environmental impacts would occur.

The U.S. Department of Energy, U.S. Coast Guard, U.S. Army Corps of Engineers, U.S. Department of Transportation's Pipeline and Hazardous Materials Safety Administration and Federal Aviation Administration, U.S. Fish and Wildlife Service, U.S. Environmental Protection Agency, National Park Service, and National Oceanic and Atmospheric Administration's National Marine Fisheries Service participated as cooperating agencies in the preparation of the EIS. Cooperating agencies have jurisdiction by law or special expertise with respect to resources potentially affected by the proposal and participate in the NEPA analysis. Although the cooperating agencies provided input to the conclusions and recommendations presented in the EIS, the agencies will present their own conclusions and recommendations in their respective Records of Decision for the project.

The final EIS addresses the potential environmental effects of the construction and operation of the following project facilities:

• Gas gate station and interconnect facility;

• pretreatment facility to remove water, carbon dioxide, hydrogen sulfide, mercury, and heavier (pentane and above) hydrocarbons;

• a liquefaction facility consisting of two liquefaction trains utilizing Air Products and Chemicals, Inc. (APCI) C3MR technology and ancillary support facilities;

• two approximately 210,000 cubic meter (m³) aboveground full containment LNG storage tanks with cryogenic pipeline connections to the liquefaction facility and berthing dock;

• LNG carrier berthing dock capable of receiving LNG carriers between approximately 130,000 m³ and 180,000 m³ capacity;

• a permanent material offloading facility to allow waterborne deliveries of equipment and materials during construction and mooring of tug boats while an LNG carrier is at berth;

• thermal oxidizer, warm wet flare, cold dry flare, spare flare, acid gas flare, and marine flare; and

• administration, control, maintenance, and warehouse buildings and related parking lots; electrical transmission line and substation, water pipeline, septic system, and stormwater facilities/outfalls.

The Commission mailed a copy of the Notice of Availability to federal, state, and local government representatives and agencies; elected officials; environmental and public interest groups; Native American tribes; potentially affected landowners and other interested individuals and groups; and newspapers and libraries in the project area. The final EIS is only available in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the “Docket Number” field, excluding the last three digits (i.e. CP16-116). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: March 15, 2019.
Kimberly D. Bose,
Secretary.

[FR Doc. 2019-05500 Filed 3-21-19; 8:45 am]

BILLING CODE 6717-01-P